DEPARTMENT OF COMMERCE

International Trade Administration

A-570-853

Notice of Final Results of Changed Circumstances Review and Revocation of the Antidumping Duty Order: Bulk Aspirin from the People's Republic of China

AGENCY: Import Administration, International Trade Administration, Department of Commerce.

ACTION: Notice of Final Results of Changed Circumstances Review and Revocation of the Antidumping Duty Order.

SUMMARY: On June 24, 2004, the Department of Commerce published a notice of initiation and preliminary results of changed circumstances review and intent to revoke the antidumping duty order on bulk aspirin from the People's Republic of China (69 FR 35286). We gave interested parties an opportunity to comment on the preliminary results. Based on our analysis of the comments received, we intend to revoke this order effective July 1, 2003, the earliest date for which entries of bulk aspirin have not been subject to an administrative review.

EFFECTIVE DATE: December 28, 2004.

FOR FURTHER INFORMATION CONTACT: Scott Holland, Import Administration, International Trade Administration, U.S. Department of Commerce, 14th Street and Constitution Avenue, NW, Washington, DC 20230; telephone (202) 482-1279.

SUPPLEMENTARY INFORMATION:

Background

On July 11, 2000, the Department of Commerce (“the Department”) published an antidumping duty order on bulk aspirin from the People's Republic of China (“PRC”). See Notice of Antidumping Duty Order: Bulk Aspirin from the People's Republic of China, 65 FR 42673 (July 11, 2000). On April 30, 2004, Bimeda Inc. (“Bimeda”), a U.S. importer of bulk aspirin and an interested party in this proceeding, requested that the Department conduct a changed circumstances review for the purpose of revoking the antidumping duty order on bulk aspirin from the PRC. According to Bimeda, Rhodia, Inc. (“Rhodia”), the petitioner in the original investigation, and the only U.S. producer at the time the order was issued, closed its sole production facility related to the manufacture of bulk aspirin in the United States on or about December 20, 2002. Bimeda provided a press release, a news article, an excerpt from Rhodia's 2001 annual report to the Securities and Exchange Commission, and a product datasheet posted on Rhodia's corporate website to support its contention. (See Notice of Initiation and Preliminary Results of Changed Circumstances Review and Intent to Revoke the Antidumping Duty Order: Bulk Aspirin from the People's Republic of China, 69 FR 35286 (June 24, 2004) (“Preliminary Results”)).

In response to a request from the Department, on May 25, 2004, Rhodia stated that it had ceased production at its U.S. aspirin plant on February 28, 2003. Rhodia also indicated that it is still liquidating its inventory of bulk aspirin produced in the United States.

On June 17, 2004, Bimeda submitted additional information to support its request for a changed circumstances review. Bimeda asserted that it purchases only veterinary-grade bulk aspirin from Rhodia. According to Bimeda, Rhodia confirmed via a phone call to Bimeda's sales personnel that U.S.-produced subject merchandise was still being liquidated out of inventory, but not veterinary-grade aspirin. Bimeda further asserted that the changed circumstances review was still warranted and requested revocation of the order in full or alternatively, to exclude veterinary-grade bulk aspirin from the scope of the order.

Based on Bimeda's April 30, 2004, submission and Rhodia's May 25, 2004, submission, the Department initiated this changed circumstances review and issued preliminary results on June 24, 2004. Since the publication of the Preliminary Results of this review the following events have occurred:

We invited parties to comment on the Preliminary Results. On July 26, 2004, Perrigo Company (“Perrigo”), an importer of bulk aspirin from the PRC, Bimeda, Rhodia, and Shandong Xinhua Pharmaceutical Co., Ltd. (“Shandong”), a Chinese producer and exporter of bulk aspirin from the PRC and a respondent in the original investigation, submitted comments on the Preliminary Results. No rebuttal comments were submitted, nor was a public hearing held.

Scope of the Order

The product covered by this review is bulk acetylsalicylic acid, commonly referred to as bulk aspirin, whether or not in pharmaceutical or compound form, not put up in dosage form (tablet, capsule, powders or similar form for direct human consumption). Bulk aspirin may be imported in two forms, as pure ortho-acetylsalicylic acid or as mixed ortho-acetylsalicylic acid. Pure ortho-acetylsalicylic acid can be either in crystal form or granulated into a fine powder (pharmaceutical form). This product has the chemical formula C9H8O4. It is defined by the official monograph of the United States Pharmacopoeia 23 (“USP”). It is currently classifiable under the Harmonized Tariff Schedule of the United States (“HTSUS”) subheading 2918.22.1000.

Mixed ortho-acetylsalicylic acid consists of ortho-acetylsalicylic acid combined with other inactive substances such as starch, lactose, cellulose, or coloring materials and/or other active substances. The presence of other active substances must be in concentrations less than that specified for particular nonprescription drug combinations of aspirin and active substances as published in the Handbook of Nonprescription Drugs, eighth edition, American Pharmaceutical Association. This product is currently classifiable under HTSUS subheading 3003.90.0000.

Although the HTSUS subheadings are provided for convenience and customs purposes, the written description of the merchandise under review is dispositive.

Analysis of Comments Received

We have addressed the comments of the parties in the “Issues and Decision Memorandum” from Barbara E. Tillman, Acting Deputy Assistant Secretary, Import Administration to James J. Jochum, Assistant Secretary, Import Administration, dated December 9, 2004 (“Decision Memorandum”), which is on file in the Department's Central Records Unit (“CRU”) in room B-099 of the main Department building. In addition, a complete version of the Decision Memorandum can be accessed directly on the Web at http://ia.ita.doc.gov/frn. The paper copy and electronic version of the Decision Memorandum are identical in content.

Final Results of Changed Circumstances Review and Revocation of the Antidumping Duty Order

Pursuant to sections 751(b) and (d) and 782(h) of Tariff Act of 1930, as amended (“the Act”), as well as 19 C.F.R 351.222(g) of the Department's regulations, and consistent with the Preliminary Results, we determine that the continued relief provided by the order with respect to bulk aspirin from the PRC is no longer of interest to the domestic interested party in this proceeding. See Decision Memorandum at Comment 1. The Department also determines that the effective date of revocation for this order is July 1, 2003, the earliest date for which entries of bulk aspirin have not been subject to an administrative review. See Decision Memorandum at Comment 2.

Instructions to U.S. Customs and Border Protection

In accordance with section 351.222 of the Department's regulations, the Department will instruct U.S. Customs and Border Protection (“CBP”) to terminate the suspension of liquidation and to liquidate, without regard to antidumping duties, all unliquidated entries of bulk aspirin from the PRC, entered, or withdrawn from warehouse, for consumption on or after July 1, 2003, the effective date of the revocation of the order. The Department will further instruct CBP to refund with interest any estimated duties collected with respect to unliquidated entries of bulk aspirin from the PRC entered, or withdrawn from warehouse, for consumption on or after July 1, 2003, in accordance with section 778 of the Act.

The Department will issue the appropriate instructions directly to CBP within 15 days of publication of these final results of review.

Notification Regarding APOs

This notice also serves as a reminder to parties subject to administrative protective orders (“APO's”) of their responsibility concerning the disposition of proprietary information disclosed under APO in accordance with 19 CFR 351.305(a)(3), which continues to govern business proprietary information in this segment of the proceeding. Timely written notification of the return/destruction of APO materials or conversion to judicial protective order is hereby requested. Failure to comply with the regulations and the terms of an APO is a sanctionable violation.

We are issuing and publishing this finding and notice in accordance with sections 751(b)(1) and 777(i)(1) of the Act and section 351.216 of the Department's regulations.

Dated: December 15, 2004.
James J. Jochum,
Assistant Secretary for Import Administration.

[FR Doc. E4-3829 Filed 12-27-04; 8:45 am]

BILLING CODE 3510-DS-S